DEPARTMENT OF AGRICULTURE

Forest Service

Herger-Feinstein Quincy Library Forest Recovery Act Forest Plan Amendment

AGENCY: Forest Service, USDA.

ACTION: Notice of intent to prepare a supplemental environmental impact statement.

SUMMARY: The Department of Agriculture, Forest Service, Lassen National Forest, Plumas National Forest, and Tahoe National Forest will prepare a supplemental environmental impact statement (EIS) in response to a recent United States District Court Decision in CALIFORNIANS FOR ALTERNATIVES TO TOXICS v. MICHAEL DOMBECK NO. CIV. S-00-605 LKK/PAN. This supplemental EIS will address maintenance of defensible fuels profile zones (DFPZs) in the Herger-Feinstein Quincy Library Forest Recovery Act Pilot Project Area.

DATES: The public is not asked to provide any additional information at this time. A draft supplemental environmental impact statement will be circulated for public review in October 2001. The comment period for the supplemental draft environmental impact statement will extend 45 days from the date its availability is published in the Federal Register.

FOR FURTHER INFORMATION CONTACT: Contact David Arrasmith, Team Leader, USDA Forest Service, 801 I Street, Room 419, Sacramento, CA 95814. Phone number (916) 492-7559.

SUPPLEMENTARY INFORMATION:

Background

In October 1998, Herger-Feinstein Quincy Library Group Forest Recovery Act (HFQLG Act) became law as part of the Department of the Interior and Related Agencies Appropriations Act. The HFQLG Act required the Forest Service to conduct a 5-year pilot project to implement certain resource protection measures and management activities on the Plumas, Lassen, and Tahoe National Forests. Based on the direction in the HFQLG Act, the Forest Service prepared an environmental impact statement (EIS) evaluating the impacts of, among other things, the creation of fuelbreaks, or defensible fuel profile zones (DFPZs), over the 5-year pilot project period. IN August 1999, the Lassen, Plumas, and Tahoe Forest Supervisors issued the Record of Decision (ROD) and the Final Environmental Impact Statement (FEIS) for pilot project implementation.

In a recent court decision, based on a lawsuit filed by the Californians for Alternatives to Toxics (CAT), the Forest Service was directed to undertake supplementation of the EIS to analyze the need for, and environmental effects of, maintaining DFPZs in the HFQLG Forest Recovery Act Pilot Project Area.

Purpose and Need for Action

The purpose of and need for action is to undertake supplementation of the Final EIS for the HFQLG Act pilot project in accordance with United States District Court Decision in CALIFORNIANS FOR ALTERNATIVES TO TOXICS v. MICHAEL DOMBECK NO. CIV. S-00-605 LKK/PAN. This supplementation will disclose options for maintaining DFPZs and analyze the likely environmental impacts of DFPZ maintenance.

In proposing the alternatives, the agency is responding in part to an underlying purpose outlined in the Quincy Library Group Community Stability Proposal, November 1993, as referenced in the Act (Title IV, Section 401(b)(1) and to concerns identified by the Public as required by law. The underlying need for the pilot project is to fulfill the Secretary of Agriculture's statutory duty under the Act, consistent with applicable Federal law.

Proposed Action

The Forest Service proposes to establish guidelines for maintaining DFPZs in the HFQLG Act pilot project area.

Scoping Process

This Notice of Intent will not initiate any additional scoping processes. The Judge's order in CALIFORNIANS FOR ALTERNATIVES TO TOXICS v. MICHAEL DOMBECK identifies the scope of the supplemental draft EIS and significant environmental issues related to the proposed action. No additional public comment is invited on this proposal to prepare the supplemental draft EIS.

Decision To Be Made and Responsible Official(s)

The Forest Supervisors of the Lassen, Plumas and Tahoe National Forests will decide whether or not to amend management direction in their land and resource management plans to address DFPZ maintenance within the Herger-Feinstein Quincy Library Group Pilot Project Area.

The responsible officials are Forest Supervisors Mark J. Madrid, Plumas National Forest, PO Box 11500, Quincy, CA 95971-6025, Edward C. Cole, Lassen National Forest, 2550 Riverside Drive, Susanville, CA 96130 and Steven T. Eubanks, Tahoe National Forest, 631 Coyote Street, Nevada City, CA 95959-6003.

Coordination With Other Agencies

The Forest Service is the lead agency with responsibility to prepare this supplemental draft EIS; however, the U.S. Environmental Protection Agency, U.S.D.I Fish and Wildlife Service, California Department of Forestry and Fire Protection, and California Department of Fish and Game will be asked to participate as cooperating agencies (40 CFR part 1501.6), as needed. Each agency will participate as resources and competing demands permit. Other agencies and local and county governments will be invited to participate, as appropriate.

Commenting

A supplemental draft environmental impact statement is expected to be available for public review and comment in October 2001, and a final environmental impact statement in January 2002. The comment period for the supplemental draft environmental impact statement will extend 45 days from the date its availability is published in the Federal Register.

Comments received in response to this solicitation, including names and addresses of those who comment, will be considered part of the public record on this proposed action and will be available for public inspection. Comments submitted anonymously will be accepted and considered. Additionally, pursuant to 7 CFR 1.27(d), any person may request the agency to withhold a submission from the public record by showing how the Freedom of Information (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address.

The Forest Service believes that it is important to give reviewers notice of several court rulings related to public participation in the environmental review process. First, reviewers of draft environmental impact statements must structure their participation in the environmental review of the proposal so that it is meaningful and alerts the agency to the reviewer's position and contentions. Vermont Yankee Nuclear Power Corp. v. NRDC, 435 U.S. 519, 553 (1978). Also, environmental objections that could be raised at the draft environmental impact statement stage, but that are not raised until after completion of the final environmental impact statement, may be waived or dismissed by the courts. City of Angoon v. Hodel, 803 F.2d 1016, 1022 (9th Cir. 1986) and Wisconsin Heritages, Inc. v. Harris, 490 F. Supp. 1334 (E.D. Wis. 1980). Because of these court rulings, it is very important that those interested in this proposed action participate by the close of the 45-day comment period so that substantive comments and objections are made available to the Forest Service at a time when the Agency can meaningfully consider them and respond to them in the final environmental impact statement.

To assist the Forest Service in identifying and considering issues and concerns on the proposed action, comments on the draft environmental impact statement should be as specific as possible. It is also helpful if comments refer to specific pages or chapters of the draft statement. Comments may also address the adequacy of the supplemental draft environmental impact statement or the merits of the alternatives formulated and discussed in the statement. Reviewers may wish to refer to the Council on Environmental Quality Regulations for implementing the procedural provisions of the National Environmental Policy Act at 40 CFR 1503.3 in addressing these points.

Dated: July 31, 2001.
Mark J. Madrid,
Forest Supervisor, Plumas National Forest.
Dated: July 27, 2001.
Jack T. Walton,
Acting Forest Supervisor, Lassen National Forest.
Dated: July 25, 2001.
Steven T. Eubanks,
Forest Supervisor, Tahoe National Forest.

[FR Doc. 01-20249 Filed 8-13-01; 8:45 am]

BILLING CODE 3410-11-M